COMMITTEE FOR PURCHASE FROM PEOPLE WHO ARE BLIND OR SEVERELY DISABLED

Procurement List; Proposed Additions and Deletions

AGENCY: Committee for Purchase From People Who Are Blind or Severely Disabled.

ACTION: Proposed deletions from the Procurement List.

SUMMARY: The Committee is proposing to delete services from to the Procurement List that were furnished by nonprofit agencies employing persons who are blind or have other severe disabilitiess.

DATES: Comments must be received on or before: December 14, 2022.

ADDRESSES: Committee for Purchase From People Who Are Blind or Severely Disabled, 355 E Street SW, Washington, DC 20024.

FOR FURTHER INFORMATION CONTACT: For further information or to submit comments contact: Michael R. Jurkowski, Telephone: (703) 785-6404, or email CMTEFedReg@AbilityOne.gov.

SUPPLEMENTARY INFORMATION: This notice is published pursuant to 41 U.S.C. 8503 (a)(2) and 41 CFR 51-2.3. Its purpose is to provide interested persons an opportunity to submit comments on the proposed actions.

Deletions

The following service(s) are proposed for deletion from the Procurement List:

Service(s)

Service Type: Administrative Services

Mandatory for: Charlie Norwood VA Medical Center, Augusta, GA

Designated Source of Supply: Bobby Dodd Institute, Inc., Atlanta, GA

Contracting Activity: VETERANS AFFAIRS, DEPARTMENT OF, 247-NETWORK CONTRACT OFFICE 7

Service Type: Administrative Services

Mandatory for: Department of Veterans Affairs, Carl Vinson VA Medical Center, Dublin, GA, 1826 Veterans Blvd., Dublin, GA

Designated Source of Supply: Bobby Dodd Institute, Inc., Atlanta, GA

Contracting Activity: VETERANS AFFAIRS, DEPARTMENT OF, 247-NETWORK CONTRACT OFFICE 7

Service Type: Document Assembly

Mandatory for: USDA Forest Service, Northern Research Station, Saint Paul, MN, 1992 Folwell Avenue, Saint Paul, MN

Designated Source of Supply: AccessAbility, Inc., Minneapolis, MN

Contracting Activity: FOREST SERVICE, USDA FOREST SERVICE

Service Type: Custodial & Pest Control Services

Mandatory for: US Navy, Naval Operations Support Center, Wilmington, NC, 3623 Carolina Beach Rd., Wilmington, NC

Mandatory Source of Supply: OE Enterprises, Inc., Hillsborough, NC

Contracting Activity: DEPT OF THE NAVY, NAVAL FAC ENGINEERING CMD MID LANT

Michael R. Jurkowski,
Acting Director, Business Operations.

[FR Doc. 2022-24657 Filed 11-10-22; 8:45 am]

BILLING CODE 6353-01-P